DEPARTMENT OF AGRICULTURE

Forest Service

Dixie Resource Advisory Committee

AGENCY: Forest Service, USDA.

ACTION: Notice of meetings.

SUMMARY: The Dixie Resource Advisory Committee (RAC) will meet in Cedar City, Utah. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is to review project proposals and recommend funding.

DATES: The meetings will be held at 9:00 a.m. on the following dates:

• July 8, 2014

• July 9, 2014

• July 10, 2014

All RAC meetings are subject to cancellation. For status of meeting prior to attendance, please contact the person listed under FOR FURTHER INFORMATION CONTACT.

ADDRESSES: The meetings will be held at the Dixie National Forest (NF) Supervisor's Office, SO Conference Room, 1789 North Wedgewood Lane, Cedar City, Utah. The meeting will also be available by video teleconference at:

• Pine Valley Ranger District, Conference Room, 196 East Tabernacle, St. George, Utah;

• Powell Ranger District, Conference Room, 225 East Center, Panguitch, Utah; and

• Escalante Ranger District Conference Room, 755 West Center, Escalante, Utah.

Written comments may be submitted as described under SUPPLEMENTARY INFORMATION. All comments, including names and addresses when provided, are placed in the record and are available for public inspection and copying. The public may inspect comments received at Dixie NF Supervisor's Office. Please call ahead to facilitate entry into the building.

FOR FURTHER INFORMATION CONTACT: Janice Minarik, RAC Coordinator, by phone at 435-865-3794 or via email at jminarik@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed above.

SUPPLEMENTARY INFORMATION: Additional RAC information, including the meeting agenda and the meeting summary/minutes can be found at the following Web site: https://fsplaces.fs.fed.us/fsfiles/unit/wo/secure_rural_schools.nsf/Web_Documents/F4E0A783899A0A3488256CDE005A26C6?OpenDocument. The agenda will include time for people to make oral statements of three minutes or less. Individuals wishing to make an oral statement should request in writing by July 1, 2014 to be scheduled on the agenda. Anyone who would like to bring related matters to the attention of the committee may file written statements with the committee staff before or after the meeting. Written comments and requests for time for oral comments must be sent to Janice Minarik, RAC Coordinator, Dixie NF Supervisor's Office, 1789 North Wedgewood Lane, Cedar City, Utah 84721; by email to jminarik@fs.fed.us, or via facsimile to 435-865-3791.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: May 29, 2014.
Angelita S. Bulletts,
Forest Supervisor.

[FR Doc. 2014-12926 Filed 6-3-14; 8:45 am]

BILLING CODE 3411-15-P